DEPARTMENT OF THE INTERIOR

National Park Service

[NPS-WASO-NAGPRA-NPS0037473; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and has determined that there is a cultural affiliation between the human remains and Indian Tribes or Native Hawaiian organizations in this notice. The human remains were removed from Ventura, CA.

DATES: Repatriation of the human remains in this notice may occur on or after March 29, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the inventory or related records held by the University of California, Riverside.

Description

Human remains representing, at minimum, one individual were removed from Ventura County, CA. The cranium of 1 young adult female Native American individual was discovered in a cave in Ventura County by a group of young boys participating in the “Trailfinders” camp. The cranium was housed at the University of California James San Jacinto Mountain Natural Reserve in a cabinet with other mammal crania since its founding in 1966 by Harry James who was also the founder of Trailfinders. The cabinet and its contents were reportedly given to the reserve by the Department of Biology at the University of California, Riverside (UCR). Through conversations with previous reserve directors, UCR NAGPRA Staff found that there was an oral history among individuals (now in their 80s and 90s) who participated in the Trailfinders organization about how the cranium was discovered. Former director of the James Reserve, Michael Hamilton, indicated that he was told by former Trailfinders that the cranium was found in a cave in Ventura County during a hike. Through speaking with other former members, UCR NAGPRA Staff discovered that the Trailfinders owned property on Sespe Creek in Ventura County north of Filmore where they often had weekend camping trips. They typically hiked upstream (north) on Sespe Creek because that was the only direction they could go for a hike. Living Trailfinders who have spoken with UCR NAGPRA Staff suggested that it is likely that the cranium was found in the Sespe Creek drainage in Ventura County during one such hike.

Additional post-cranial human remains representing one young adult female Native American individual were reported by the University of California, Riverside's Department of Evolution Ecology & Organismal Biology (EEOB) to the UCR NAGPRA Program. The department staff indicated that the human remains, which were stored in a cardboard box labeled “Indian Bones”, had been in the department since at least before the 1990s. Despite an exhaustive attempt to contact previous professors and department chairs, no information was found by the NAGPRA Program Staff to indicate how the human remains became part of the department's collections. The cabinet which the human remains were stored in contained the post-cranial remains of other vertebrate mammals. Examination of the human remains by an osteologist determined that there were also a few large sea mammal bones mixed with the human remains and were likely from the same archeological context. Furthermore, osteological analysis suggested the post cranial remains could represent the same individual as the crania at the James San Jacinto Mountain Natural Reserve. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, biological information, geographical information, historical information, oral tradition, expert opinion.

Determinations

Pursuant to NAGPRA and its implementing regulations, and after consultation with the appropriate Indian Tribes and Native Hawaiian organizations, the University of California, Riverside has determined that:

• The human remains described in this notice represent the physical remains of one individual of Native American ancestry.

• There is a relationship of shared group identity that can be reasonably traced between the human remains described in this notice and the Santa Ynez Band of Chumash Mission Indians of the Santa Ynez Reservation, California.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 29, 2024. If competing requests for repatriation are received, the University of California, Riverside must determine the most appropriate requestor prior to repatriation. Requests for joint repatriation of the human remains are considered a single request and not competing requests. The University of California, Riverside is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04088 Filed 2-27-24; 8:45 am]

BILLING CODE 4312-52-P